DEPARTMENT OF COMMERCE

National Oceanic and Atmospheric Administration

RIN 0648-XS97

Endangered Species; File No. 14604

AGENCY: National Marine Fisheries Service (NMFS), National Oceanic and Atmospheric Administration (NOAA), Commerce.

ACTION: Notice; receipt of application.

SUMMARY: Notice is hereby given that Harold Brundage, Environmental Research and Consulting, Inc, 126 Bancroft Road, Kennett Square, PA 19348, has applied in due form for a permit to take shortnose sturgeon (Acipenser brevirostrum) for purposes of scientific research.

DATES: Written, telefaxed, or e-mail comments must be received on or before December 21, 2009.

ADDRESSES: The application and related documents are available for review by selecting “Records Open for Public Comment” from the Features box on the Applications and Permits for Protected Species (APPS) home page, https://apps.nmfs.noaa.gov, and then selecting File No. 14604 from the list of available applications. These documents are also available for review upon written request or by appointment. The application and related documents are available for review upon written request or by appointment in the following offices: Permits, Conservation and Education Division, Office of Protected Resources, NMFS, 1315 East-West Highway, Room 13705, Silver Spring, MD 20910; phone (301)713-2289; fax (301)713-0376; and Northeast Region, NMFS, Protected Resources Division, 55 Great Republic Drive, Gloucester, MA, 01930; phone (978)281-9328; fax (978)281-9394. Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate. Comments may also be submitted by facsimile at (301)713-0376, provided the facsimile is confirmed by hard copy submitted by mail and postmarked no later than the closing date of the comment period. Comments may also be submitted by e-mail. The mailbox address for providing e-mail comments is NMFS.Pr1Comments@noaa.gov. Include in the subject line of the e-mail comment the following document identifier: File No. 14604.

FOR FURTHER INFORMATION CONTACT: Malcolm Mohead or Kate Swails, (301)713-2289.

SUPPLEMENTARY INFORMATION: The subject permit is requested under the authority of the Endangered Species Act of 1973, as amended (ESA; 16 U.S.C. 1531 et seq.), and the regulations governing the taking, importing, and exporting of endangered and threatened species (50 CFR 222-226).

The applicant is seeking a five-year scientific research permit to characterize habitat use, relative abundance, reproduction, juvenile recruitment, temporal and spatial distributions, and reproductive health of the shortnose sturgeon population in the Delaware River and Estuary. The proposed permit requests annual authorization for non-lethal sampling methods on up to 1,000 adult and juvenile shortnose sturgeon. Research activities would include: capturing via gill net, trammel net, and trawl net; measuring and weighing; tagging with PIT and Floy T-bar tags; and sampling tissue for genetic analysis. A subset of 30 adults and 30 juveniles would be tagged with acoustic transmitters. Another subset of 24 adults would be examined internally using laparoscopic techniques and each would also have gonad biopsy and blood samples taken for analyses. Additionally, lethal takes of up to 500 eggs and larvae each year would be collected during seasonal spawning activity by artificial substrate, D-frame ichthyoplankton net, and/or epibenthic sled. Finally, one unintentional mortality or serious injury is requested annually.

Dated: November 13, 2009.
P. Michael Payne,
Chief, Permits, Conservation and Education Division, Office of Protected Resources, National Marine Fisheries Service.

[FR Doc. E9-27829 Filed 11-18-09; 8:45 am]

BILLING CODE 3510-22-S